DEPARTMENT OF HOMELAND SECURITY

Coast Guard

33 CFR Part 117

[Docket No. USCG-2012-0290]

Drawbridge Operation Regulation; Oregon Slough, Hayden Island, OR

AGENCY: Coast Guard, DHS.

ACTION: Notice of temporary deviation from regulations.

SUMMARY: The Coast Guard has issued a temporary deviation from the operating schedule that governs the Burlington Northern Santa Fe (BNSF) Railway Bridge across Oregon Slough, mile 3.2, at Hayden Island, OR. This deviation is necessary to accommodate maintenance of the train signaling system scheduled for April 30, 2012. This deviation allows the bridge to remain in the closed position for the duration of the maintenance activity.

DATES: This deviation is effective from 8 a.m. to 8 p.m. on April 30, 2012.

ADDRESSES: Documents mentioned in this preamble as being available in the docket are part of docket USCG-2012-0290 and are available online by going to http://www.regulations.gov, inserting USCG-2012-0290 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Randall D. Overton, the Bridge Administrator, Coast Guard Thirteenth District; telephone 206-220-7282 email randall.d.overton@uscg.mil. If you have questions on viewing the docket, call Renee V. Wright, Program Manager, Docket Operations, telephone 202-366-9826.

SUPPLEMENTARY INFORMATION: BNSF has requested that the BNSF Swing Bridge across Oregon Slough remain closed to vessel traffic to facilitate maintenance of the train signaling system. BNSF will be “cutting over” the train signaling system to a new system on April 30, 2012. During this cut-over the swing span of the BNSF Railway Bridge across Oregon Slough will be disabled and the bridge will not be able to be opened. The BNSF Bridge crosses Oregon Slough at mile 3.2 and in accordance to NOAA Chart 18526 provides 39 feet of vertical clearance above Columbia River Datum 0.0 while in the closed position. Vessels which do not require a bridge opening may continue to transit beneath the bridge during this closure period. Under normal conditions this bridge operates in accordance with 33 CFR 117.887 which requires a half-hour advance notification when a bridge opening is needed. This deviation period is from 8 a.m. on April 30, 2012 through 8 p.m. April 30, 2012. The deviation allows the swing span of the BNSF Railway Bridge across Oregon Slough, mile 3.2, to remain in the closed position and need not open for maritime traffic from 8 a.m. through 8 p.m. on April 30, 2012. The bridge shall operate in accordance to 33 CFR § 117.887 at all other times. Waterway usage on this stretch of Oregon Slough includes vessels ranging from commercial sightseeing vessels to recreational pleasure craft including cabin cruisers and sailing vessels. Mariners will be notified and kept informed of the bridge's operational status via the Coast Guard Notice to Mariners publication and Broadcast Notice to Mariners as appropriate.

In accordance with 33 CFR 117.35(e), the drawbridge must return to its regular operating schedule immediately at the end of the designated time period. This deviation from the operating regulations is authorized under 33 CFR 117.35.

Dated: April 3, 2012
Randall D. Overton,
Bridge Administrator.

[FR Doc. 2012-8875 Filed 4-12-12; 8:45 am]

BILLING CODE 9110-04-P